OVERSEAS PRIVATE INVESTMENT CORPORATION

Guidelines for Ensuring and Maximizing the Quality, Objectivity, Utility, and Integrity of Information Disseminated by Federal Agencies

AGENCY: Overseas Private Investment Corporation (“OPIC”).

ACTION: Publication of, “Guidelines for Ensuring and Maximizing the Quality, Objectivity, Utility, and Integrity of Information Disseminated by Federal Agencies on OPIC's Web site.”

SUMMARY: The Overseas Private Investment Corporation (OPIC or agency) in accordance with section 515 of the Treasury and General Government Appropriations Act for Fiscal Year 2001 (Pub. L. 106-554; H.R. 5658) as implemented by the final guidelines published by the Office of Management and Budget, Executive Office of the President, on September 28, 2001 (66 FR 49718) and on January 3, 2002 (67 FR 369) (and reprinted in their entirety on February 22, 2002, 67 FR 8452), “Guidelines for Ensuring and Maximizing the Quality, Objectivity, Utility, and Integrity of Information Disseminated by Federal Agencies,” has posted its draft guidelines on the OPIC Web Site, http://www.opic.gov/generalopic/GuidelinesIntro.htm.

This agency's information quality guidelines explain how such guidelines will ensure and maximize the quality, objectivity, utility, and integrity of information, including disseminated by OPIC. The guidelines also detail the administrative mechanisms that will allow affected persons to seek and obtain appropriate correction of information maintained and dissemianted by OPIC that does not comply with the OMB or agency guidelines.

DATES: Comments on the draft guidelines should be received by September 6, 2002.

FOR FURTHER INFORMATION CONTACT: Mr. Dev Jagadesan, Department of Legal Affair, Overseas Private Investment Corporation, 1100 New York Avenue, NW., Washington, DC 20527, e-mail: information quality@opic.gov, (202) 336-8428.

Dated: August 12, 2002.
Connie M. Downs,
Corporate Secretary, Overseas Private Investment Corporation.

[FR Doc. 02-20805 Filed 8-15-02; 8:45 am]

BILLING CODE 3210-01-M